DEPARTMENT OF HOMELAND SECURITY

U.S. Customs and Border Protection

19 CFR Chapter I

Transportation Security Administration

49 CFR Chapter XII

Notification of Termination of Arrival Restrictions Applicable to Flights Carrying Persons Who Have Recently Traveled From or Were Otherwise Present Within Certain Countries

AGENCY: U.S. Customs and Border Protection and U.S. Transportation Security Administration, Department of Homeland Security.

ACTION: Notification of termination of arrival restrictions.

SUMMARY: This document announces the decision of the Secretary of the Department of Homeland Security (DHS) to terminate arrival restrictions applicable to certain flights. Specifically, this document terminates arrival restrictions that are applicable to flights carrying persons who had recently traveled from, or were otherwise present within, the People's Republic of China (excluding the Special Administrative Regions of Hong Kong and Macau); the Islamic Republic of Iran; the countries of the Schengen Area; the United Kingdom, excluding overseas territories outside of Europe; the Republic of Ireland; or the Federative Republic of Brazil. These arrival restrictions direct such flights to only land at a limited set of U.S. airports where the U.S. Government (USG) had focused public health resources conducting enhanced entry screening. Other measures to protect public health will remain in place.

DATES: The arrival restrictions described in this document are terminated as of 12:01 a.m. Eastern Daylight Time (EDT) on September 14, 2020.

FOR FURTHER INFORMATION CONTACT: Matthew S. Davies, Office of Field Operations, U.S. Customs and Border Protection (CBP) at 202-325-2073.

SUPPLEMENTARY INFORMATION:

Background

In recent months, in response to the Coronavirus Disease 2019 (COVID-19) outbreak, DHS announced a series of arrival restrictions, as follows:

• Notification of Arrival Restrictions Applicable to Flights Carrying Persons Who Have Recently Traveled From or Were Otherwise Present Within the People's Republic of China, 85 FR 6044 (Feb. 4, 2020);

• Notification of Arrival Restrictions Applicable to Flights Carrying Persons Who Have Recently Traveled From or Were Otherwise Present Within the People's Republic of China, 85 FR 7214 (Feb. 7, 2020);

• Notification of Arrival Restrictions Applicable to Flights Carrying Persons Who Have Recently Traveled From or Were Otherwise Present Within the People's Republic of China or the Islamic Republic of Iran, 85 FR 12731 (Mar. 4, 2020);

• Notification of Arrival Restrictions Applicable to Flights Carrying Persons Who Have Recently Traveled From or Were Otherwise Present Within the Countries of the Schengen Area, 85 FR 15059 (Mar. 17, 2020);

• Notification of Arrival Restrictions Applicable to Flights Carrying Persons Who Have Recently Traveled From or Were Otherwise Present Within the United Kingdom or the Republic of Ireland, 85 FR 15714 (Mar. 19, 2020);

• Notification of Arrival Restrictions Applicable to Flights Carrying Persons Who Have Recently Traveled From or Were Otherwise Present Within the Federative Republic of Brazil, 85 FR 31957 (May 28, 2020).

The Secretary announced such arrival restrictions consistent with 19 U.S.C. 1433(c), 19 CFR 122.32, 49 U.S.C. 114, and 49 CFR 1544.305 and 1546.105.

The Secretary has decided to terminate these arrival restrictions. These restrictions funnel eligible arriving air passengers to one of 15 designated airports of entry where the USG has focused public health resources in order to conduct enhanced entry screening. Terminating this effort will allow public health resources to be more effectively reprioritized for other containment and mitigation efforts and will stimulate air travel. Continuing activities will include an illness reporting system and a passenger education process carried out in tandem with other enhanced public health measures implemented within the passenger air transportation system in collaboration with industry. This notice does not affect those other public health measures, which will remain in place as long as appropriate. Appropriate traveler health education materials will continue to be made available to passengers arriving from foreign countries. Health education information will continue to be displayed at ports of entry.

Notification of Termination of Arrival Restrictions

Pursuant to 19 U.S.C. 1433(c), 19 CFR 122.32, 49 U.S.C. 114, and 49 CFR 1544.305 and 1546.105, and effective as of 12:01 a.m. Eastern Daylight Time (EDT) on September 14, 2020 for all affected flights arriving at a U.S. airport, the Secretary hereby terminates the arrival restrictions announced at 85 FR 6044 (Feb. 4, 2020); 85 FR 7214 (Feb. 7, 2020); 85 FR 12731 (Mar. 4, 2020); 85 FR 15059 (Mar. 17, 2020); 85 FR 15714 (Mar. 19, 2020); and 85 FR 31957 (May 28, 2020).

Signature

The Acting Secretary of DHS, Chad F. Wolf, having reviewed and approved this document, has delegated the authority to electronically sign this document to Ian J. Brekke, Deputy General Counsel, DHS Office of the General Counsel, for purposes of publication in the Federal Register.

Ian J. Brekke,
Deputy General Counsel, U.S. Department of Homeland Security.

[FR Doc. 2020-20371 Filed 9-11-20; 9:00 am]

BILLING CODE 9111-14- 9110-05-P